ENVIRONMENTAL PROTECTION AGENCY

40 CFR Part 180

[EPA-HQ-OPP-2023-0502; FRL-11773-02-OCSPP]

RIN 2070-ZA16

Pesticide Tolerances; Implementing Registration Review Decisions for Certain Pesticides; Terbacil, et al.

AGENCY: Environmental Protection Agency (EPA).

ACTION: Final rule.

SUMMARY: The Environmental Protection Agency (EPA or Agency) is finalizing several tolerance actions under the Federal Food, Drug, and Cosmetic Act (FFDCA) that the Agency previously determined were necessary or appropriate during the registration review conducted under the Federal Insecticide, Fungicide, and Rodenticide Act (FIFRA). During registration review, EPA reviews all aspects of a pesticide case, including existing tolerances, to ensure that the pesticide continues to meet the standard for registration under FIFRA. The pesticide tolerances and active ingredients addressed in this rulemaking are identified and discussed in detail in Unit III. of this document.

DATES: This rule is effective on February 20, 2026. Objections and requests for hearings must be received on or before April 21, 2026 and must be filed in accordance with the instructions provided in 40 CFR part 178 (see also Unit I.D. of this document).

ADDRESSES: The docket for this action, identified by docket identification (ID) number EPA-HQ-OPP-2023-0502, is available through https://www.regulations.gov. Additional information about dockets generally, along with instructions for visiting the docket in person, is available at https://www.epa.gov/dockets.

FOR FURTHER INFORMATION CONTACT: Katherine Atha, Pesticide Re-Evaluation Division (7508M), Office of Pesticide Programs, Environmental Protection Agency, 1200 Pennsylvania Ave. NW, Washington, DC 20460-0001; telephone number: (202) 566-1933; email address: Atha.Katherine@epa.gov.

SUPPLEMENTARY INFORMATION:

I. Executive Summary

A. Does this action apply to me?

You may be potentially affected by this action if you are an agricultural producer, food manufacturer, or pesticide manufacturer. The following list of North American Industrial Classification System (NAICS) codes is not intended to be exhaustive, but rather provides a guide to help readers determine whether this document might apply to them:

• Crop production (NAICS code 111).

• Animal production (NAICS code 112).

• Food manufacturing (NAICS code 311).

• Pesticide manufacturing (NAICS code 32532).

If you have any questions regarding the applicability of this proposed action to a particular entity, consult the person listed under FOR FURTHER INFORMATION CONTACT.

B. What action is the Agency taking?

EPA is finalizing several tolerance actions that the Agency proposed in the Federal Register of July 22, 2024 (89 FR 59012) (FRL-11773-01-OCSPP), because EPA previously determined these tolerance actions were necessary or appropriate during registration review of the pesticide active ingredients identified in Unit III. of this final rule. The tolerance actions for each pesticide active ingredient are described in detail in Unit III. of the proposed rule and are not repeated in this final rule. This final rulemaking addresses the previously proposed changes, and where applicable, addresses additional changes initiated by public comments.

The Agency received five comments on the proposed rule from five contributors. The public comments did initiate changes to the regulatory text of this final rulemaking. For a detailed summary of the comments received and Agency responses, see Unit II.

C. What is EPA's authority for taking this action?

FFDCA section 408(e), 21 U.S.C. 346a(e), authorizes EPA to establish, modify, or revoke tolerances or exemptions from the requirement of a tolerance on its own initiative. After providing a 60-day public comment period, EPA may finalize the rule. EPA provided a 60-day comment period, which closed on September 20, 2024, and is now finalizing the actions previously proposed in the proposed rule.

FFDCA section 408(b)(2)(A)(i) allows EPA to establish a tolerance (the legal limit for a pesticide chemical residue in or on a food) only if EPA determines that the tolerance is “safe.” FFDCA section 408(b)(2)(A)(ii) defines “safe” to mean that “there is a reasonable certainty that no harm will result from aggregate exposure to the pesticide chemical residue, including all anticipated dietary exposures and all other exposures for which there is reliable information.” This includes exposure through drinking water and in residential settings but does not include occupational exposure. FFDCA section 408(b)(2)(C) requires EPA to give special consideration to exposure of infants and children to the pesticide chemical residue in establishing a tolerance and to “ensure that there is a reasonable certainty that no harm will result to infants and children from aggregate exposure to the pesticide chemical residue. . . .”

D. How can I file an objection or hearing request?

Under FFDCA section 408(g), 21 U.S.C. 346a(g), any person may file an objection to any aspect of this regulation and may also request a hearing on those objections. If you fail to file an objection to the final rule within the time period specified in the final rule, you will have waived the right to raise any issues resolved in the final rule. You must file your objection or request a hearing on this regulation in accordance with the instructions provided in 40 CFR part 178. To ensure proper receipt by EPA, you must identify the docket ID number of this final rule, and the chemical specific docket ID number as provided in Unit III. in the subject line on the first page of your submission. All objections and requests for a hearing must be in writing and must be received by the Hearing Clerk on or before April 21, 2026.

The EPA's Office of Administrative Law Judges (OALJ), in which the Hearing Clerk is housed, urges parties to file and serve documents by electronic means only, notwithstanding any other particular requirements set forth in other procedural rules governing those proceedings. See “Revised Order Urging Electronic Filing and Service,” dated June 22, 2023, which can be found at https://www.epa.gov/system/files/documents/2023-06/2023-06-22%20-%20revised%20order%20urging%20electronic%20filing%20and%20service.pdf. Although the EPA's regulations require submission via U.S. Mail or hand delivery, the EPA intends to treat submissions filed via electronic means as properly filed submissions; therefore, the EPA believes the preference for submission via electronic means will not be prejudicial. When submitting documents to the OALJ electronically, a person should utilize the OALJ e-filing system at https://yosemite.epa.gov/oa/eab/eab-alj_upload.nsf.

II. Background

In the proposed rule, EPA proposed several tolerance actions that the Agency previously determined were necessary or appropriate during registration review of the pesticide active ingredients identified in Unit III. of the proposed rule. This final rule serves to implement the previously proposed changes and, where noted, incorporates any necessary changes initiated by public comment.

A. Public Comments Received and EPA's Responses

During the public comment period for the changes in the proposed rule, which closed on September 20, 2024, EPA received five comments from five sources. The following is a summary of the comments received and the Agency's responses to those comments.

Comment: EPA received one comment from Syngenta Crop Protection, LLC requesting revisions based on current OECD rounding class practice for the tolerances for cyproconazole on cattle, goat, horse, and sheep livers that were not included in the proposed rule. The comment also requested clarification on the Agency's rationale for the proposal to revise new tolerances for pinoxaden on animal fat, meat, and meat byproducts and whether the revision was proposed for aligning with Canadian maximum reside limits (MRLs).

EPA's Response: In response to the comment on revisions to cattle, goat, horse, and sheep liver tolerances for cyproconazole to be consistent with OECD rounding class practices, EPA is including in this final rule rounded values for the cattle, goat, horse, and sheep liver tolerances in 40 CFR 180.485 paragraph (a)(3) at 0.5 ppm by removing trailing zeroes, which is also supported by the human health risk assessment.

The proposed rule included the establishment of animal fat, meat, and meat byproduct tolerances for pinoxaden at 0.04 ppm. EPA proposed establishing these tolerances because, during registration review, it was determined that the tolerances were needed to cover potential residues on treated feed items at the same level as the current tolerances for cattle based on evaluation of available cattle feeding studies, calculated dietary burdens, and livestock metabolism studies. The Canadian MRLs for animal fat, meat, and meat byproduct tolerances for pinoxaden are equivalent to the tolerance levels of 0.04 ppm and are considered harmonized.

Comment: Four individual commenters submitted comments on the proposed rule generally supporting updates to pesticide tolerances. Individual comments generally questioned the value of updating commodity definitions and requested additional public comment opportunities. One commenter referenced potential impacts on growers and stakeholders, specifically about increased costs for small-scale farmers from compliance with the updated tolerance requirements.

EPA's Response: EPA appreciates the comments on the proposed rule. Since the commenters did not request specific changes from the proposal, the Agency is not making specific changes in this final rule in response to these comments. Regarding potential impacts to growers from increased costs with the updated tolerance requirements, the commenter did not provide a specific tolerance or commodity expected to impose this cost. Since the commenter did not suggest any specific changes, the Agency is not changing its determination that the actions in this final rule have no net burden on small entities subject to this rulemaking. As discussed in the proposed rule, the Agency's determination takes into account analyses published in the Federal Register in May 4, 1981 (46 FR 24950) (FRL-1809-5) and December 17, 1997 (62 FR 66020) (FRL-5753-1). The potential for increased costs for small-scale farmers from compliance with the updated tolerance requirements is also discussed in Unit V.D of this final rule.

B. EPA's Safety Determination

As noted in Unit II.D. of the proposed rule, and the supporting registration review documents, EPA has assessed the individual risks from exposure to the pesticide active ingredients identified and discussed in Unit III. of this final rulemaking. After fully considering comments on the proposed rule, EPA is confirming the proposed safety findings contained in Unit III. of the proposed rule.

For further detail about pesticide-specific registration review safety findings, see the public docket that has been opened for each pesticide, which is available online at https://www.regulations.gov using the docket ID number listed in Unit III. of this final rulemaking.

C. Analytical Enforcement Methodology

Adequate enforcement methodology, as described in the supporting documents, is available to enforce the tolerance expressions for the pesticide active ingredients identified in Unit III.

D. Conclusion

Therefore, EPA is finalizing the tolerance actions proposed in the proposed rule. For Cyproconazole, EPA is also updating tolerance values for cattle, goat, horse, and sheep liver to remove trailing zeroes to reflect current OECD rounding class practice.

III. Final Tolerance Actions

EPA is finalizing the tolerance actions identified in this unit. All tolerance values expressed in the regulatory text of this rule, modified or otherwise, reflect current OECD rounding class practice.

A. 40 CFR 180.209; Terbacil, Case 0039 (Docket ID No. EPA-HQ-OPP-2011-0054)

EPA is finalizing its proposals to revise the current tolerance expression, revise commodity definitions to the updated “Peppermint, fresh leaves” and “Spearmint, fresh leaves”, and modify tolerance values to reflect OECD's rounding class practices.

B. 40 CFR 180.210; Bromacil; Case 0041 (Docket ID No. EPA-HQ-OPP-2012-0445)

EPA is finalizing its proposals to revise the current tolerance expression and the commodity definition to the updated “Fruit, citrus, group 10-10”.

C. 40 CFR 180.368; Metolachlor and S-Metolachlor; Case 0001 (Docket ID No. EPA-HQ-OPP-2014-0772)

EPA is finalizing its proposal to revise the commodity definitions to the updated “Beet, sugar, leaves”, “Cilantro, fresh leaves”, “Berry, low growing, subgroup 13-07G, except cranberry”, “Grass, forage, fodder and hay, group 17, forage”, “Grass, forage, fodder and hay, group 17, hay”, and “Vegetable, brassica, head and stem, group 5-16”.

EPA is also finalizing its proposals to add the chemical name to the title in 40 CFR 180.368 and to modify tolerance values to reflect OECD's rounding class practices.

D. 40 CFR 180.370; Etridiazole; Case 0009 (Docket ID No. EPA-HQ-OPP-2014-0414)

EPA is finalizing its proposals to revise the current tolerance expression, revising the chemical name to the title in 40 CFR 180.370, and modify the tolerance level for tomatoes from 0.15 ppm to 0.1 ppm. EPA is modifying the tolerance level for etridiazole on tomatoes due to new data submitted by the registrant that shows no measurable residues and the Agency is not able to set a tolerance level below the limit of quantitation (LOQ) of 0.1 ppm. Since the tolerance level is being lowered, EPA is establishing an expiration date of August 19, 2026 for the tolerance at 0.15 ppm for “Tomato”.

E. 40 CFR 180.417; Triclopyr; Case 2710 (Docket ID No. EPA-HQ-OPP-2014-0576)

EPA is finalizing its proposals to revise the commodity definitions to the updated “Fish, freshwater, finfish”, “Fish, shellfish, mollusc”, “Fish, shellfish, crustacean”, “Grass, forage, fodder and hay, group 17, forage”, “Grass, forage, fodder and hay, group 17, hay” and modifying tolerance levels to reflect OECD's rounding practices. EPA is also finalizing its proposals to establish a new paragraph for the fish and shellfish commodities in (a)(1) and revise the tolerance expression.

F. 40 CFR 180.435; Deltamethrin; Case 7414 (Docket ID No. EPA-HQ-OPP-2009-0637)

EPA is finalizing its proposal to modify the tolerances for “Grain, cereal, group 15, except sweet corn” and “Tomato” to harmonize with Codex MRLs.

To correct typographical errors, EPA is revising the entries in this rule for “Vegetable, root, except sugar beet, Subgroup IB” to “Vegetable, root, except sugar beet, subgroup 1B” and “Vegetable, tuberous and corm, Subgroup IC” to “Vegetable, tuberous and corm, subgroup 1C”.

G. 40 CFR 180.436; Cyfluthrin and Isomer Beta-Cyfluthrin; Case 7405 (Docket ID No. EPA-HQ-OPP-2010-0684)

EPA is finalizing its proposals to revise the current tolerance expression and convert crop group tolerances to the updated crop groups “Brassica, leafy greens, subgroup 4-16B”; “Fruit, citrus, group 10-10”; “Fruit, pome, group 11-10”; “Fruit, stone, group 12-12”; “Leaf petiole vegetable subgroup 22B”; “Leafy greens subgroup 4-16A”; “Nut, tree, group 14-12”; “Vegetable, brassica, head and stem, group 5-16”; “Vegetable, fruiting, group 8-10”, to establish tolerances for the commodities “Celtuce” and “Fennel, florence, fresh leaves and stalk” and “Kohlrabi”, and remove the tolerances for “Lettuce, head”; “Lettuce, leaf”; “Mustard greens”; “Pepper”; “Pistachio”; “Tomato”; and “Turnip, greens”.

EPA is also finalizing its proposal to modify the tolerances for “Hog, meat byproducts” and “Fruit, citrus, group 10-10” to harmonize with Codex MRLs.

H. 40 CFR 180.485; Cyproconazole; Case 7011 (Docket ID No. EPA-HQ-OPP-2015-0462)

EPA is finalizing its proposals to revise commodity definitions to the updated “Coffee, green bean”, “Cattle, meat byproducts, except liver”, “Goat, meat byproducts, except liver”, “Grain, aspirated fractions”, “Horse, meat byproducts, except liver”, “Sheep, meat byproducts, except liver”, and “Wheat, milled byproducts”.

EPA is also finalizing its proposal to modify the tolerance for “Wheat, grain” to harmonize with Codex MRLs.

In response to public comments, EPA is also in this final rule modifying values for cattle, goat, horse, and sheep liver tolerances in paragraph (a)(3) from 0.50 ppm to 0.5 ppm to be consistent with OECD rounding class practices, which was discussed in the supporting registration review documents.

I. 40 CFR 180.535; Fluroxypyr; Case 7248 (Docket ID No. EPA-HQ-OPP-2014-0570)

EPA is finalizing its proposals to revise the current tolerance expression and to revise the commodity definitions to the updated “Grass, forage, fodder and hay, group 17, forage” and “Grass, forage, fodder and hay, group 17, hay”.

EPA is also finalizing its proposal to remove the tolerance for “Barley, hay” and adding a tolerance for “Barley, forage” that was erroneously removed in a September 30, 1998 rulemaking (63 FR 5216) (FRL-6033-49).

J. 40 CFR 180.585; Pyraflufen-Ethyl; Case 7259 (Docket ID No. EPA-HQ-OPP-2014-0415)

EPA is finalizing its proposals to redesignate paragraph (a) as (a)(1) and establishing a new paragraph (a)(2) under paragraph (a) for livestock commodities and revise the current tolerance expression.

EPA is also finalizing its proposal to revise the current commodity definitions and modified value for “Grass, forage, group 17” and “Grass, hay, group 17” to the updated “Grass, forage, fodder and hay, group 17”.

K. 40 CFR 180.593; Etoxazole; Case 7616 (Docket ID No. EPA-HQ-OPP-2014-0133)

EPA is finalizing its proposals to revise commodity definitions to the updated “Peppermint, fresh leaves” and “Spearmint, fresh leaves” and to modify tolerances for “Almond, hulls”, “Peppermint, fresh leaves”, and “Spearmint, fresh leaves” to harmonize with Codex MRLs.

L. 40 CFR 180.599; Acequinocyl; Case 7621 (Docket ID No. EPA-HQ-OPP-2015-0203)

EPA is finalizing its proposal to revise the commodity definition from “Citrus, oil” to “Fruit, citrus, group 10-10, oil.”

M. 40 CFR 180.611; Pinoxaden; Case 7266 (Docket ID No. EPA-HQ-OPP-2015-603)

EPA is finalizing its proposals to revise the current tolerance expression in (a)(1) and (a)(2) and to modify tolerances for “Barley, hay”, “Barley, straw”, “Wheat, hay”, and “Wheat, straw”, to harmonize with Codex MRLs.

EPA is also finalizing its proposal to establish new tolerances in paragraph (a)(2) for livestock commodities “Goat, fat”; “Goat, meat”; “Goat, meat byproducts”; “Hog, fat”; “Hog, meat”; “Hog, meat byproducts”; “Horse, fat”; “Horse, meat”; “Horse, meat byproducts”; “Sheep, fat”; “Sheep, meat”; and “Sheep, meat byproducts” since during registration review it was determined that the tolerances were needed to cover potential residues on treated feed items at the same level as the current tolerances for cattle.

N. 40 CFR 180.613; Flonicamid; Case 7436 (Docket ID No. EPA-HQ-OPP-2014-0777)

EPA is finalizing its proposal to revise commodity definitions to the updated “Fennel, florence, fresh leaves and stalk”, “Peppermint, fresh leaves”, and “Spearmint, fresh leaves”.

O. 40 CFR 180.647; d-Phenothrin; Case 0426 (Docket ID No. EPA-HQ-OPP-2011-0539)

EPA is finalizing its proposal to revise the current tolerance expression to describe more clearly the coverage of the tolerances and the method for measuring compliance.

IV. Effective and Expiration Date(s)

These tolerance actions are effective on the date of publication of the final rule in the Federal Register. For actions in the final rule that lower or revoke existing tolerances, EPA has set an expiration date for the existing tolerance of 180 days after the date of publication of the final rule in the Federal Register, to allow a reasonable interval for producers in exporting members of the World Trade Organization's (WTO's) Sanitary and Phytosanitary (SPS) Measures Agreement to adapt to the requirements.

V. Statutory and Executive Order Reviews

Additional information about these statutes and Executive Orders can be found at https://www.epa.gov/laws-regulations/laws-and-executive-orders.

A. Executive Order 12866: Regulatory Planning and Review

This action is exempt from review under Executive Order 12866 (58 FR 51735, October 4, 1993), because it establishes or modifies a pesticide tolerance or a tolerance exemption under FFDCA section 408. This exemption also applies to tolerance revocations for which extraordinary circumstances do not exist. As such, this exemption applies to the tolerance revocations in this final rule because the Agency knows of no extraordinary circumstances that warrant reconsideration of this exemption for those tolerance revocations.

B. Executive Order 14192: Unleashing Prosperity Through Deregulation

Executive Order 14192 (90 FR 9065, February 6, 2025) does not apply because actions that establish a tolerance under FFDCA section 408 are exempted from review under Executive Order 12866.

C. Paperwork Reduction Act (PRA)

This action does not impose an information collection burden under the PRA 44 U.S.C. 3501 et seq., because it does not contain any information collection activities.

D. Regulatory Flexibility Act (RFA)

I certify that this action will not have a significant economic impact on a substantial number of small entities under the RFA, 5 U.S.C. 601 et seq. In making this determination, EPA concludes that the impact of concern for this action is any significant adverse economic impact on small entities and that the Agency is certifying that this action will not have a significant economic impact on a substantial number of small entities because the action has no net burden on small entities subject to this rulemaking. As discussed in the proposed rule, this determination takes into account several EPA analyses of potential small entity impacts for tolerance actions. EPA received a comment on the proposed rule concerning the potential for increased costs for small-scale farmers from compliance with the updated tolerance requirements, however the commenter did not provide a specific tolerance or commodity that would impose this cost. Since the commenter did not identify specific changes to the proposed rule or proposed actions or specific extraordinary circumstances that exist that would change EPA's previous analyses, the Agency is not changing this determination.

E. Unfunded Mandates Reform Act (UMRA)

This action does not contain an unfunded mandate of $100 million or more (in 1995 dollars and adjusted annually for inflation) as described in UMRA, 2 U.S.C. 1531-1538, and does not significantly or uniquely affect small governments. The action imposes no enforceable duty on any State, local or Tribal governments or the private sector.

F. Executive Order 13132: Federalism

This action does not have federalism implications as specified in Executive Order 13132 (64 FR 43255, August 10, 1999), because it will not have substantial direct effects on the States, on the relationship between the National Government and the States, or on the distribution of power and responsibilities among the various levels of government.

G. Executive Order 13175: Consultation and Coordination With Indian Tribal Governments

This action does not have tribal implications as specified in Executive Order 13175 (65 FR 67249, November 9, 2000), because it will not have substantial direct effects on Tribal governments, on the relationship between the Federal government and the Indian tribes, or on the distribution of power and responsibilities between the Federal Government and Indian Tribes.

H. Executive Order 13045: Protection of Children From Environmental Health Risks and Safety Risks

This action is not subject to Executive Order 13045 (62 FR 19885, April 23, 1997) because it is not a significant regulatory action under section 3(f)(1) of Executive Order 12866 (See Unit V.A.), and because EPA does not believe the environmental health or safety risks addressed by this action present a disproportionate risk to children. However, EPA's 2021 Policy on Children's Health applies to this action.

This rule finalizes tolerance actions under the FFDCA, which requires EPA to give special consideration to exposure of infants and children to the pesticide chemical residue in establishing a tolerance and to “ensure that there is a reasonable certainty that no harm will result to infants and children from aggregate exposure to the pesticide chemical residue . . .” (FFDCA 408(b)(2)(C)). The Agency's consideration is documented in the pesticide-specific registration review documents, located in each chemical docket at https://www.regulations.gov.

I. Executive Order 13211: Actions Concerning Regulations That Significantly Affect Energy Supply, Distribution or Use

This action is not subject to Executive Order 13211 (66 FR 28355) (May 22, 2001) because it is not a significant regulatory action under Executive Order 12866.

J. National Technology Transfer Advancement Act (NTTAA)

This action does not involve technical standards that would require Agency consideration under NTTAA section 12(d), 15 U.S.C. 272.

K. Congressional Review Act (CRA)

This action is subject to the CRA, 5 U.S.C. 801 et seq., and EPA will submit a rule report to each House of the Congress and to the Comptroller General of the United States. This action is not a “major rule” as defined by 5 U.S.C. 804(2).

List of Subjects in 40 CFR Part 180

Environmental protection, Administrative practice and procedure, Agricultural commodities, Pesticides and pests, Reporting and recordkeeping requirements.

Dated: February 13, 2026.
Edward Messina,
Director, Office of Pesticide Programs.

For the reasons set forth in the preamble, EPA is amending 40 CFR chapter I as follows:

PART 180—TOLERANCES AND EXEMPTIONS FOR PESTICIDE CHEMICAL RESIDUES IN FOOD

1. The authority citation for part 180 continues to read as follows:

Authority: 21 U.S.C. 321(q), 346a and 371.

2. Amend § 180.209 by:

a. Revising the introductory text in paragraph (a);

b. In the table in paragraph (a):

i. Adding the table heading “Table 1 to paragraph (a)”;

ii. Revising the entries for “Alfalfa, forage” and “Alfalfa, hay”;

iii. Adding in alphabetical order the entry for “Peppermint, fresh leaves”;

iv. Removing the entry for “Peppermint, tops”;

v. Adding in alphabetical order the entry for “Spearmint, fresh leaves”;

vi. Removing the entry for “Spearmint, tops”; and

vii. Revising the entry for “Watermelon”.

The revisions and additions read as follows:

§ 180.209 Terbacil; tolerances for residues.

(a) General. Tolerances are established for residues of the herbicide terbacil, including its metabolites and degradates, in or on the commodities in table 1 to this paragraph (a). Compliance with the tolerance levels specified in table 1 to this paragraph (a) is to be determined by measuring only the sum of terbacil (5-chloro-3-(1,1-dimethylethyl)-6-methyl-2,4(1H,3H)-pyrimidinedione) and its metabolites 3-tert-butyl-5-chloro-6-hydroxymethyluracil, 6-chloro-2,3-dihydro-7-hydroxymethyl 3,3-dimethyl-5H-oxazolo(3,2-a) pyrimidin-5-one, and 6-chloro-2,3-dihydro-3,3,7-trimethyl-5H-oxazolo(3,2-a) pyrimidin-5-one, calculated as the stoichiometric equivalent of terbacil, in or on the commodity.

Table 1 to Paragraph (a)
Commodity | Parts per million
Alfalfa, forage | 1
Alfalfa, hay | 2
* * * * * * *
Peppermint, fresh leaves | 2
Spearmint, fresh leaves | 2
* * * * * * *
Watermelon | 1

* * * * *

3. Amend § 180.210 by revising and republishing paragraph (a) to read as follows:

§ 180.210 Bromacil; tolerances for residues.

(a) General. Tolerances are established for residues of bromacil, including its metabolites and degradates, in or on the commodities in table 1 to this paragraph (a). Compliance with the tolerance levels specified in table 1 to this paragraph (a) is to be determined by measuring only bromacil, 5-bromo-6-methyl-3-(1-methylpropyl)-2,4(1H,3H)-pyrimidinedione, in or on the commodity.

Table 1 to Paragraph (a)
Commodity | Parts per million
Fruit, citrus, group 10-10 | 0.1
Pineapple | 0.1

* * * * *

4. Amend § 180.368 by:

a. Revising the section heading; and

b. Revising and republishing the table in paragraph (a)(1) and table 2 in paragraph (a)(2).

The revisions read as follows:

§ 180.368 Metolachlor and S-metolachlor; tolerances for residues.

(a) * * *

(1) * * *

Table 1 to Paragraph (a)(1)
Commodity | Parts per million
Almond, hulls | 0.3
Animal feed, nongrass, group 18 | 1
Cattle, fat | 0.02
Cattle, kidney | 0.2
Cattle, liver | 0.05
Cattle, meat | 0.02
Cattle, meat byproducts, except kidney and liver | 0.04
Corn, field, forage | 6
Corn, field, grain | 0.1
Corn, field, stover | 6
Corn, pop, grain | 0.1
Corn, pop, stover | 6
Corn, sweet, forage | 6
Corn, sweet, kernel plus cob with husks removed | 0.1
Corn, sweet, stover | 6
Cotton, gin byproducts | 4
Cotton, undelinted seed | 0.1
Dillweed | 0.5
Egg | 0.02
Goat, fat | 0.02
Goat, kidney | 0.2
Goat, liver | 0.05
Goat, meat | 0.02
Goat, meat byproducts, except kidney and liver | 0.04
Grass, forage, fodder and hay, group 17, forage | 10
Grass, forage, fodder and hay, group 17, hay | 0.2
Horse, fat | 0.02
Horse, kidney | 0.2
Horse, liver | 0.05
Horse, meat | 0.02
Horse, meat byproducts, except kidney and liver | 0.04
Milk | 0.02
Nut, tree, group 14 | 0.1
Okra | 0.5
Peanut | 0.2
Peanut, hay | 20
Peanut, meal | 0.4
Potato | 0.2
Poultry, fat | 0.02
Poultry, meat | 0.02
Poultry, meat byproducts | 0.05
Safflower, seed | 0.1
Sheep, fat | 0.02
Sheep, kidney | 0.2
Sheep, liver | 0.05
Sheep, meat | 0.02
Sheep, meat byproducts, except kidney and liver | 0.04
Sorghum, grain, forage | 1
Sorghum, grain, grain | 0.3
Sorghum, grain, stover | 4
Soybean, forage | 5
Soybean, hay | 8
Soybean, seed | 0.2
Tomato | 0.1
Vegetable, foliage of legume, except soybean, subgroup 7A | 15
Vegetable, legume, group 6 | 0.3

(2) * * *

Table 2 to Paragraph (a)(2)
Commodity | Parts per million
Beet, sugar, leaves | 15
Beet, sugar, molasses | 2
Beet, sugar, roots | 0.5
Berry, low growing, subgroup 13-07G, except cranberry | 0.4
Brassica, leafy greens, subgroup 4-16B | 1.8
Bushberry subgroup 13-07B | 0.15
Caneberry subgroup 13-07A | 0.1
Carrot, roots | 0.4
Cattle, fat | 0.02
Cattle, kidney | 0.2
Cattle, liver | 0.05
Cattle, meat | 0.02
Cattle, meat byproducts, except kidney and liver | 0.04
Cilantro, fresh leaves | 8
Coriander, seed | 0.13
Corn, field, forage | 40
Corn, field, grain | 0.1
Corn, field, stover | 40
Corn, pop, grain | 0.1
Corn, pop, stover | 40
Corn, sweet, forage | 6
Corn, sweet, kernel plus cob with husks removed | 0.1
Corn, sweet, stover | 40
Cotton, gin byproducts | 4
Cottonseed subgroup 20C | 0.1
Dill, seed | 15
Dillweed | 5
Dillweed, dried leaves | 9
Egg | 0.02
Goat, fat | 0.02
Goat, kidney | 0.2
Goat, liver | 0.05
Goat, meat | 0.02
Goat, meat byproducts, except kidney and liver | 0.04
Grain, aspirated fractions | 4
Grass, forage, fodder and hay, group 17, forage | 10
Grass, forage, fodder and hay, group 17, hay | 0.2
Horse, fat | 0.02
Horse, kidney | 0.2
Horse, liver | 0.05
Horse, meat | 0.02
Horse, meat byproducts, except kidney and liver | 0.04
Kohlrabi | 0.6
Leaf petiole vegetable subgroup 22B | 0.1
Lettuce | 1.5
Milk | 0.02
Onion, bulb, subgroup 3-07A | 0.1
Onion, green, subgroup 3-07B | 2
Peanut | 0.2
Peanut, hay | 20
Peanut, meal | 0.4
Poultry, fat | 0.02
Poultry, meat | 0.02
Poultry, meat byproducts | 0.05
Rosemary, dried leaves | 2
Rosemary, fresh leaves | 1.5
Safflower, seed | 0.1
Sesame, seed | 0.13
Sheep, fat | 0.02
Sheep, kidney | 0.2
Sheep, liver | 0.05
Sheep, meat | 0.02
Sheep, meat byproducts, except kidney and liver | 0.04
Sorghum, grain, forage | 1
Sorghum, grain, grain | 0.3
Sorghum, grain, stover | 4
Sorghum, sweet, stalk | 4
Soybean, forage | 5
Soybean, hay | 8
Soybean, meal | 1.5
Soybean, seed | 0.9
Spinach | 0.5
Stalk and stem vegetable subgroup 22A, except kohlrabi | 0.1
Stevia, dried leaves | 15
Sugarcane, cane | 0.2
Sugarcane, molasses | 1.5
Sunflower, meal | 1
Sunflower subgroup 20B | 1
Swiss chard | 0.15
Tomato, paste | 0.3
Vegetable, brassica, head and stem, group 5-16 | 0.6
Vegetable, cucurbit, group 9 | 0.5
Vegetable, foliage of legume, except soybean, subgroup 7A | 15
Vegetable, fruiting, group 8-10, except tabasco pepper | 0.1
Vegetable, leaves of root and tuber, group 2, except sugar beet | 2
Vegetable, legume, group 6 | 0.3
Vegetable, root, except sugar beet, subgroup 1B, except carrot | 0.3
Vegetable, tuberous and corm, subgroup 1C | 0.2

* * * * *

5. Amend § 180.370 by revising and republishing paragraph (a) to read as follows:

§ 180.370 Etridiazole; tolerances for residues.

(a) General. Tolerances are established for residues of the fungicide etridiazole, including its metabolites and degradates, in or on the commodities in table 1 to this paragraph (a). Compliance with the tolerance levels is to be determined by measuring only the residues of etridiazole, (5-ethoxy-3-(trichloromethyl)-1,2,4-thiadiazole), and its metabolite etridiazole acid, (3-carboxy-5-ethoxy-1,2,4-thiadiazole), calculated as the stoichiometric equivalent of etridiazole, in or on the commodity:

Table 1 to Paragraph (a)
Commodity | Parts per million
Cotton, gin byproducts | 0.1
Cotton, undelinted seed | 0.1
Tomato¹ | 0.15
Tomato | 0.1
¹ This tolerance expires on August 19, 2026.

* * * * *

6. Amend § 180.417 by revising and republishing paragraph (a) to read as follows:

§ 180.417 Triclopyr; tolerances for residues.

(a) General. (1) Tolerances are established for residues of the herbicide triclopyr, including its metabolites and degradates, in or on the commodities in table 1 to this paragraph (a)(1) resulting from the application of the butoxyethyl ester of triclopyr, triethylamine salt of triclopyr, or choline salt of triclopyr. Compliance with the tolerance levels specified in table 1 to this paragraph (a)(1) is to be determined by measuring only triclopyr, 2-[(3,5,6-trichloro-2-pyridinyl)oxy]acetic acid in or on the commodity.

Table 1 to Paragraph (a)(1)
Commodity | Parts per million
Egg | 0.05
Grass, forage, fodder and hay, group 17, forage | 700
Grass, forage, fodder and hay, group 17, hay | 200
Milk | 0.6
Orange subgroup 10-10A ¹ | 0.1
Poultry, fat | 0.1
Poultry, meat | 0.1
Poultry, meat byproducts, except kidney | 0.1
Rice, grain | 0.3
Sugarcane, cane | 0.04
¹ There are no U.S. registrations.

(2) Tolerances are established for residues of the herbicide triclopyr, including its metabolites and degradates, in or on the commodities in table 2 to this paragraph (a)(2) resulting from the application of the butoxyethyl ester of triclopyr, triethylamine salt of triclopyr, or choline salt of triclopyr. Compliance with the tolerance levels specified in table 2 to this paragraph (a)(2) is to be determined by measuring the combined residues of triclopyr, 2-[(3,5,6-trichloro-2-pyridinyl)oxy]acetic acid, and its metabolite 3,5,6-trichloro-2-pyridinol (TCP), calculated as the stoichiometric equivalent of triclopyr in or on the commodity.

Table 2 to Paragraph (a)(2)
Commodity | Parts per million
Cattle, fat | 0.1
Cattle, meat | 0.1
Cattle, meat byproducts | 0.5
Goat, fat | 0.1
Goat, meat | 0.1
Goat, meat byproducts | 0.5
Hog, fat | 0.1
Hog, meat | 0.1
Hog, meat byproducts | 0.5
Horse, fat | 0.1
Horse, meat | 0.1
Horse, meat byproducts | 0.5
Sheep, fat | 0.1
Sheep, meat | 0.1
Sheep, meat byproducts | 0.5

(3) Tolerances are established for residues of the herbicide triclopyr, including its metabolites and degradates, in or on the commodities in table 3 to this paragraph (a)(3) resulting from the application of the butoxyethyl ester of triclopyr, triethylamine salt of triclopyr, or choline salt of triclopyr. Compliance with the tolerance levels specified in table 3 to this paragraph (a)(3) is to be determined by measuring the combined residues of triclopyr (2-[(3,5,6-trichloro-2-pyridinyl)oxy]acetic acid) and its metabolites 3,5,6-trichloro-2-pyridinol (TCP) and 2-methoxy-3,5,6-trichloropyridine (TMP), calculated as the stoichiometric equivalent of triclopyr in or on the commodity.

Table 3 to Paragraph (a)(3)
Commodity | Parts per million
Fish, freshwater, finfish | 3
Fish, shellfish, crustacean | 3.5
Fish, shellfish, mollusc | 3.5

* * * * *

7. Amend § 180.435, by revising and republishing table 1 to paragraph (a)(1) to read as follows:

§ 180.435 Deltamethrin; tolerances for residues.

(a) * * *

(1) * * *

Table 1 to Paragraph (a)(1)
Commodity | Parts per million
Almond, hulls | 2.5
Apple, wet pomace | 1
Artichoke, globe | 0.5
Barley, bran | 5
Cattle, fat | 0.05
Cattle, meat | 0.02
Cattle, meat byproducts | 0.05
Citrus, dried pulp ¹ | 3
Citrus, oil ¹ | 50
Corn, field, forage | 0.7
Corn, field, refined oil | 2.5
Corn, field, stover | 5
Corn, pop, stover | 5
Corn, sweet, forage | 10
Corn, sweet, kernel plus cob with husks removed | 0.03
Corn, sweet, stover | 15
Cotton, refined oil | 0.2
Cotton, undelinted seed | 0.04
Egg | 0.02
Fish—freshwater finfish | 0.01
Fish—freshwater finfish, farm raised | 0.01
Fish—freshwater finfish, other | 0.01
Fish—freshwater finfish, tuna | 0.01
Fruit, pome, group 11 | 0.2
Goat, fat | 0.05
Goat, meat | 0.02
Goat, meat byproducts | 0.05
Grain, aspirated fractions | 65
Grain, cereal, group 15, except sweet corn | 2
Hog, fat | 0.05
Horse, fat | 0.05
Horse, meat | 0.02
Horse, meat byproducts | 0.05
Lychee ¹ | 0.2
Milk, fat (reflecting 0.02 ppm in whole milk) | 0.1
Nut, tree, group 14 | 0.1
Onion, bulb | 0.1
Onion, green | 1.5
Orange ¹ | 0.3
Poultry, fat | 0.05
Poultry, meat | 0.02
Poultry, meat byproducts | 0.02
Radish, tops | 4
Rapeseed | 0.2
Rice, hulls | 2.5
Rye, bran | 5
Sheep, fat | 0.05
Sheep, meat | 0.02
Sheep, meat byproducts | 0.05
Sorghum, grain, forage | 0.5
Sorghum, grain, stover | 1
Soybean, seed | 0.1
Soybean, hulls | 0.2
Starfruit ¹ | 0.2
Sunflower, seed | 0.1
Tomato | 0.3
Tomato, paste | 1
Tomato, puree | 1
Vegetable, cucurbit, group 9 | 0.2
Vegetable, fruiting, group 8 | 0.3
Vegetable, legume, pulse, bean, dried shelled, except soybean, subgroup 6-22E ¹ | 0.07
Vegetable, legume, pulse, pea, dried shelled, subgroup 6-22F ¹ | 0.07
Vegetable, root, except sugar beet, subgroup 1B | 0.2
Vegetable, tuberous and corm, subgroup 1C | 0.04
Wheat, bran | 5
¹ There are no U.S. registrations.

* * * * *

8. Amend § 180.436, in paragraph (a), by:

a. Revising and republishing paragraph (a)(1);

b. Revising paragraph (a)(2);

c. Removing paragraph (a)(3); and

d. Redesignating paragraph (a)(4) as paragraph (a)(3) and revising newly redesignated paragraph (a)(3).

The revisions read as follows:

§ 180.436 Cyfluthrin and the isomer beta-cyfluthrin; tolerances for residues.

(a) General. (1) Tolerances are established for residues of cyfluthrin, including its metabolites and degradates, in or on the commodities in table 1 to this paragraph (a)(1). Compliance with the tolerance levels specified in table 1 to this paragraph (a)(1) is to be determined by measuring only cyfluthrin, (cyano(4-fluoro-3-phenoxyphenyl)methyl-3-(2,2-dichloroethenyl)-2,2dimethyl-cyclopropane-carboxylate, in or on the commodity.

Table 1 to Paragraph (a)(1)
Commodity | Parts per million
Alfalfa | 5
Alfalfa, forage | 5
Alfalfa, hay | 13
Almond, hulls | 0.5
Barley, bran | 0.5
Barley, grain | 0.15
Beet, sugar, dried pulp | 1
Beet, sugar, roots | 0.1
Brassica, leafy greens, subgroup 4-16B | 7
Buckwheat, grain | 0.15
Carrot, roots | 0.2
Cattle, fat | 2
Cattle, meat | 0.1
Cattle, meat byproducts | 0.1
Celtuce | 6
Citrus, dried pulp | 0.3
Citrus, oil | 0.3
Corn, field, grain | 0.05
Corn, pop, grain | 0.05
Corn, sweet, kernel plus cob with husks removed | 0.05
Cotton, hulls | 2
Cotton, refined oil | 2
Cotton, undelinted seed | 1
Egg | 0.01
Fennel, florence, fresh leaves and stalk | 6
Fruit, citrus, group 10-10 | 0.3
Fruit, pome, group 11-10 | 0.5
Fruit, stone, group 12-12 | 0.3
Goat, fat | 2
Goat, meat | 0.05
Goat, meat byproducts | 0.05
Grain, aspirated fractions | 150
Grain, cereal, forage, fodder and hay, group 16, forage, except rice | 25
Grain, cereal, forage, fodder and hay, group 16, hay, except rice | 6
Grain, cereal, forage, fodder and hay, group 16, stover, except rice | 30
Grain, cereal, forage, fodder and hay, group 16, straw, except rice | 7
Grape | 1
Grape, raisin | 3.5
Grass, forage, fodder and hay, group 17, forage | 12
Grass, forage, fodder and hay, group 17, hay | 50
Hog, fat | 0.5
Hog, meat | 0.01
Hog, meat byproducts | 0.02
Hop, dried cones | 20
Hop, vines | 4
Horse, fat | 2
Horse, meat | 0.05
Horse, meat byproducts | 0.05
Kohlrabi | 2.5
Leaf petiole vegetable subgroup 22B | 6
Leafy greens subgroup 4-16A | 6
Milk | 0.2
Milk, fat | 5
Millet, grain | 0.15
Nut, tree, group 14-12 | 0.01
Oat, bran | 0.5
Oat, grain | 0.15
Pea and bean, dried shelled, except soybean, subgroup 6C | 0.15
Pea, dry, seed | 0.15
Pea, southern, succulent | 0.25
Peanut | 0.01
Peanut, hay | 6
Poultry, fat | 0.01
Poultry, meat | 0.01
Poultry, meat byproducts | 0.01
Radish, roots | 1
Rye, bran | 0.5
Rye, grain | 0.15
Sheep, fat | 2
Sheep, meat | 0.05
Sheep, meat byproducts | 0.05
Sorghum, grain, grain | 3.5
Soybean, forage | 8
Soybean, hay | 4
Soybean, seed | 0.03
Sugarcane, cane | 0.05
Sugarcane, molasses | 0.2
Sunflower, forage | 5
Sunflower, seed | 0.02
Teosinte, grain | 0.05
Tomato, dry pomace | 5
Tomato, paste | 0.5
Tomato, wet pomace | 5
Triticale, grain | 0.15
Vegetable, brassica, head and stem, group 5-16 | 2.5
Vegetable, cucurbit, group 9 | 0.1
Vegetable, fruiting, group 8-10 | 0.5
Vegetable, tuberous and corm, subgroup 1C | 0.01
Wheat, bran | 0.5
Wheat, grain | 0.15
Wheat, shorts | 0.5

(2) A tolerance of 0.05 parts per million is established for residues of cyfluthrin, including its metabolites and degradates, in or on all food and feed items when cyfluthrin is used in food or feed handling establishments. Compliance with the tolerance level specified is to be determined by measuring only cyfluthrin, (cyano(4-fluoro-3-phenoxyphenyl)methyl-3-(2,2-dichloroethenyl)-2,2dimethyl-cyclopropane-carboxylate, in or on the commodity.

(3) Tolerances are established for residues of beta-cyfluthrin, including its metabolites and degradates, in or on the commodities in table 2 to this paragraph (a)(3). Compliance with the tolerance levels specified in table 2 to this paragraph (a)(3) is to be determined by measuring only the sum of beta-cyfluthrin, cyano(4-fluoro-3-phenoxyphenyl)methyl-3-(2,2-dichloroethenyl)-2,2-dimethyl-cyclopropanecarboxylate [mixture comprising the enantiomeric pair (R)-α-cyano-4-fluoro-3-phenoxybenzyl (1S,3S)-3-(2,2-dichlorovinyl)-2,2-dimethylcyclopropanecarboxylate and (S)-α-cyano-4-fluoro-3-phenoxybenzyl (1R,3R)-3-(2,2-dichlorovinyl)-2,2-dimethylcyclopropanecarboxylate with the enantiomeric pair (R)-α-cyano-4-fluoro-3-phenoxybenzyl (1S,3R)-3-(2,2-dichlorovinyl)-2,2-dimethylcyclopropanecarboxylate and (S)-α-cyano-4-fluoro-3-phenoxybenzyl (1R,3S)-3-(2,2-dichlorovinyl)-2,2-dimethylcyclopropanecarboxylate], in or on the commodity.

Table 2 to Paragraph (a)(3)
Commodity | Parts per million
Alfalfa | 5
Alfalfa, forage | 5
Alfalfa, hay | 13
Almond, hulls | 0.5
Barley, bran | 0.5
Barley, grain | 0.15
Beet, sugar, dried pulp | 1
Beet, sugar, roots | 0.1
Brassica, leafy greens, subgroup 4-16B | 7
Buckwheat, grain | 0.15
Carrot, roots | 0.2
Cattle, fat | 2
Cattle, meat | 0.1
Cattle, meat byproducts | 0.1
Celtuce | 6
Citrus, dried pulp | 0.3
Citrus, oil | 0.3
Corn, field, grain | 0.05
Corn, pop, grain | 0.05
Corn, sweet, kernel plus cob with husks removed | 0.05
Cotton, hulls | 2
Cotton, refined oil | 2
Cotton, undelinted seed | 1
Egg | 0.01
Fennel, florence, fresh leaves and stalk | 6
Fruit, citrus, group 10-10 | 0.3
Fruit, pome, group 11-10 | 0.5
Fruit, stone, group 12-12 | 0.3
Goat, fat | 2
Goat, meat | 0.05
Goat, meat byproducts | 0.05
Grain, aspirated fractions | 150
Grain, cereal, forage, fodder and hay, group 16, forage, except rice | 25
Grain, cereal, forage, fodder and hay, group 16, hay, except rice | 6
Grain, cereal, forage, fodder and hay, group 16, stover, except rice | 30
Grain, cereal, forage, fodder and hay, group 16, straw, except rice | 7
Grape | 1
Grape, raisin | 3.5
Grass, forage, fodder and hay, group 17, forage | 12
Grass, forage, fodder and hay, group 17, hay | 50
Hog, fat | 0.5
Hog, meat | 0.01
Hog, meat byproducts | 0.02
Hop, dried cones | 20
Hop, vines | 4
Horse, fat | 2
Horse, meat | 0.05
Horse, meat byproducts | 0.05
Kohlrabi | 2.5
Leaf petiole vegetable subgroup 22B | 6
Leafy greens subgroup 4-16A | 6
Milk | 0.2
Milk, fat | 5
Millet, grain | 0.15
Nut, tree, group 14-12 | 0.01
Oat, bran | 0.5
Oat, grain | 0.15
Pea and bean, dried shelled, except soybean, subgroup 6C | 0.15
Pea, dry, seed | 0.15
Pea, southern, succulent | 0.25
Peanut | 0.01
Peanut, hay | 6
Poultry, fat | 0.01
Poultry, meat | 0.01
Poultry, meat byproducts | 0.01
Radish, roots | 1
Rye, bran | 0.5
Rye, grain | 0.15
Sheep, fat | 2
Sheep, meat | 0.05
Sheep, meat byproducts | 0.05
Sorghum, grain, grain | 3.5
Soybean, forage | 8
Soybean, hay | 4
Soybean, seed | 0.03
Sugarcane, cane | 0.05
Sugarcane, molasses | 0.2
Sunflower, forage | 5
Sunflower, seed | 0.02
Teosinte, grain | 0.05
Tomato, paste | 0.5
Tomato, pomace | 5
Triticale, grain | 0.15
Vegetable, brassica, head and stem, group 5-16 | 2.5
Vegetable, cucurbit, group 9 | 0.1
Vegetable, fruiting, group 8-10 | 0.5
Vegetable, tuberous and corm, subgroup 1C | 0.01
Wheat, bran | 0.5
Wheat, grain | 0.15
Wheat, shorts | 0.5

* * * * *

9. Amend § 180.485 by:

a. Revising and republishing paragraph (a)(1);

b. Adding the heading “Table 2 to Paragraph (a)(2)” to the table in paragraph (a)(2);

c. Adding the heading “Table 3 to Paragraph (a)(3)” to the table in paragraph (a)(3); and

d. Revising and republishing the newly designated Table 3 to Paragraph (a)(3).

The additions and revisions read as follows:

§ 180.485 Cyproconazole; tolerances for residues.

(a) General. (1) Tolerances are established for residues of the free and conjugated forms of the fungicide cyproconazole, including its metabolites and degradates, in or on the commodities in table 1 to this paragraph (a)(1). Compliance with the proposed tolerance levels specified in table 1 to this paragraph (a)(1) is to be determined by measuring only cyproconazole (α-(4-chlorophenyl)-α-(1-cyclopropylethyl)-1H-1,2,4-triazole-1-ethanol) in or on the commodity.

Table 1 to Paragraph (a)(1)
Commodity | Parts per million
Cattle, fat | 0.01
Cattle, meat byproducts, except liver | 0.01
Coffee, green bean ¹ | 0.1
Corn, field, forage | 0.6
Corn, field, grain | 0.01
Corn, field, stover | 1.2
Goat, fat | 0.01
Goat, meat byproducts, except liver | 0.01
Grain, aspirated fractions | 2.5
Horse, fat | 0.01
Horse, meat byproducts, except liver | 0.01
Peanut | 0.01
Peanut, hay | 6
Sheep, fat | 0.01
Sheep, meat byproducts, except liver | 0.01
Soybean, forage | 1
Soybean, hay | 3
Soybean, oil | 0.1
Soybean, seed | 0.05
Wheat, forage | 0.8
Wheat, grain | 0.08
Wheat, hay | 1.3
Wheat, milled byproducts | 0.1
Wheat, straw | 0.9
¹ There are no U.S. registrations.

(2) * * *

Table 2 to Paragraph (a)(2)
* * * * * * *

(3) * * *

Table 3 to Paragraph (a)(3)
Commodity | Parts per million
Cattle, liver | 0.5
Goat, liver | 0.5
Hog, liver | 0.01
Horse, liver | 0.5
Sheep, liver | 0.5

* * * * *

10. Amend § 180.535 by revising and republishing paragraph (a).

§ 180.535 Fluroxypyr 1-methylheptyl ester; tolerances for residues.

(a) General. Tolerances are established for residues of the herbicide fluroxypyr 1-methylheptyl ester, including its metabolites and degradates, in or on the commodities listed in table 1 to this paragraph (a). Compliance with the tolerance levels specified in table 1 to this paragraph (a) is to be determined by measuring only the sum of the free and conjugated forms of fluroxypyr 1-methylheptyl ester [1-methylheptyl 2-[(4-amino-3,5-dichloro-6-fluoro-2-pyridinyl)oxy]acetate] and its metabolite fluroxypyr [2-[(4-amino-3,5-dichloro-6-fluoro-2-pyridinyl)oxy]acetic acid] calculated as the stoichiometric equivalent of fluroxypyr, in or on the commodity.

Table 1 to Paragraph (a)
Commodity | Parts per million
Barley, forage | 12
Barley, grain | 0.5
Barley, hay | 20
Barley, straw | 12
Cattle, fat | 0.1
Cattle, kidney | 1.5
Cattle, meat byproducts | 0.1
Corn, field, forage | 1
Corn, field, grain | 0.02
Corn, field, stover | 0.5
Corn, sweet, forage | 1
Corn, sweet, kernel plus cob with husks removed | 0.02
Corn, sweet, stover | 2
Fruit, pome, group 11 | 0.02
Garlic, bulb | 0.03
Goat, fat | 0.1
Goat, kidney | 1.5
Goat, meat | 0.1
Goat, meat byproducts | 0.1
Grain, aspirated fractions | 0.6
Grass, forage, fodder and hay, group 17, forage | 120
Grass, forage, fodder and hay, group 17, hay | 160
Hog, fat | 0.1
Hog, kidney | 1.5
Hog, meat | 0.1
Hog, meat byproducts | 0.1
Horse, fat | 0.1
Horse, kidney | 1.5
Horse, meat | 0.1
Horse, meat byproducts | 0.1
Milk | 0.3
Millet, forage | 12
Millet, grain | 0.5
Millet, hay | 20
Millet, proso, straw | 12
Oat, forage | 12
Oat, grain | 0.5
Oat, hay | 20
Oat, straw | 12
Onion, bulb | 0.03
Rice, bran | 3
Rice, grain | 1.5
Shallot, bulb | 0.03
Sheep, fat | 0.1
Sheep, kidney | 1.5
Sheep, meat | 0.1
Sheep, meat byproducts | 0.1
Sorghum, grain, forage | 2
Sorghum, grain, grain | 0.02
Sorghum, grain, stover | 4
Teff, forage | 12
Teff, grain | 0.5
Teff, hay | 20
Teff, straw | 12
Wheat, forage | 12
Wheat, grain | 0.5
Wheat, hay | 20
Wheat, straw | 12

* * * * *

11. Amend § 180.585 by revising and republishing paragraph (a).

§ 180.585 Pyraflufen-ethyl; tolerances for residues.

(a) General. (1) Tolerances are established for residues of the herbicide, pyraflufen-ethyl, including its metabolites and degradates, in or on the plant commodities listed in table 1 to this paragraph (a)(1). Compliance with the plant commodity tolerance levels specified in table 1 to this paragraph (a)(1) is to be determined by measuring only the sum of the parent pyraflufen-ethyl, ethyl 2-[2-chloro-5-(4-chloro-5-difluoromethoxy)-1-methyl-1H-pyrazol-3-yl]-4-fluorophenoxy] acetate, and its acid metabolite, E-1, 2-chloro-5-(4-chloro-5-difluoromethoxy-1-methyl-1H-pyrazol-3-yl)-4-fluorophenoxyacetic acid, calculated as the stoichiometric equivalent of pyraflufen-ethyl in or on the commodity.

Table 1 to Paragraph (a)(1)
Commodity | Parts per million
Almond, hulls | 0.02
Corn, field, forage | 0.01
Corn, field, grain | 0.01
Corn, field, stover | 0.01
Cotton, gin byproducts | 1.5
Cottonseed subgroup 20C | 0.04
Fruit, pome, group 11-10 | 0.01
Fruit, small, vine climbing, except fuzzy kiwifruit, subgroup 13-07F | 0.01
Fruit, stone, group 12-12 | 0.01
Grass, forage, fodder and hay, group 17 | 1.5
Hop, dried cones | 0.02
Nut, tree, group 14-12 | 0.01
Peanut | 0.01
Peanut, hay | 0.07
Pomegranate | 0.01
Soybean, forage | 0.05
Soybean, hay | 0.1
Soybean, seed | 0.01
Tropical and subtropical, small fruit, edible peel, subgroup 23A | 0.01
Vegetable, tuberous and corm, subgroup 1C | 0.02
Wheat, forage | 0.02
Wheat, grain | 0.01
Wheat, hay | 0.01
Wheat, straw | 0.01

(2) Tolerances are established for residues of the herbicide, pyraflufen-ethyl, including its metabolites and degradates, in or on the livestock commodities in table 2 to this paragraph (a)(2). Compliance with the livestock commodity tolerance levels specified in table 2 to this paragraph (a)(2) is to be determined by measuring only the sum of the parent pyraflufen-ethyl, ethyl 2-[2-chloro-5-(4-chloro-5-difluoromethoxy)-1-methyl-1H-pyrazol-3-yl]-4-fluorophenoxy] acetate and its acid metabolites: E-1, 2-chloro-5-(4-chloro-5-difluoromethoxy-1-methyl-1H-pyrazol-3-yl)-4-fluorophenoxyacetic acid, and E-9, 2-chloro-5-(4-chloro-5-difluoromethoxy-1H-pyrazol-3-yl)-4-fluorophenoxyacetic acid, both calculated as the stoichiometric equivalent of pyraflufen-ethyl in or on the commodity.

Table 2 to Paragraph (a)(2)
Commodity | Parts per million
Cattle, fat | 0.03
Cattle, meat | 0.03
Cattle, meat byproducts | 0.03
Goat, fat | 0.03
Goat, meat | 0.03
Goat, meat byproducts | 0.03
Horse, fat | 0.03
Horse, meat | 0.03
Horse, meat byproducts | 0.03
Milk | 0.03
Sheep, fat | 0.03
Sheep, meat | 0.03
Sheep, meat byproducts | 0.03

* * * * *

12. Amend § 180.593 by revising and republishing the table in paragraph (a) to read as follows:

§ 180.593 Etoxazole; tolerances for residues.

(a) * * *

Table 1 to Paragraph (a)
Commodity | Parts per million
Almond, hulls | 3
Apple, wet pomace | 0.5
Avocado | 0.2
Beet, sugar, leaves | 1
Beet, sugar, roots | 0.02
Berry, low growing, subgroup 13-07G | 0.5
Caneberry subgroup 13-07A | 1.5
Canistel | 0.2
Cattle, fat | 0.02
Cattle, liver | 0.01
Cherry subgroup 12-12A | 1
Corn, field, forage | 0.8
Corn, field, grain | 0.01
Corn, field, refined oil | 0.03
Corn, field, stover | 4
Corn, pop, grain | 0.01
Corn, pop, stover | 4
Corn, sweet, forage | 1.5
Corn, sweet, kernel plus cob with husks removed | 0.01
Corn, sweet, stover | 5
Cotton, gin byproducts | 1
Cottonseed subgroup 20C | 0.05
Fruit, pome, group 11-10 | 0.2
Fruit, small vine climbing, except fuzzy kiwifruit, subgroup 13-07F | 0.5
Goat, fat | 0.02
Goat, liver | 0.01
Grape, raisin | 1.5
Hop, dried cones | 7
Horse, fat | 0.02
Horse, liver | 0.01
Mango | 0.2
Melon subgroup 9A | 0.2
Milk, fat | 0.01
Nut, tree, group 14-12 | 0.01
Orange ¹ | 0.1
Orange, oil ¹ | 1
Papaya | 0.2
Peach subgroup 12-12B | 1
Pepper/eggplant subgroup 8-10B | 0.2
Peppermint, fresh leaves | 15
Peppermint, oil | 20
Plum, prune, dried | 0.3
Plum subgroup 12-12C | 0.15
Sapodilla | 0.2
Sapote, black | 0.2
Sapote, mamey | 0.2
Sheep, fat | 0.02
Sheep, liver | 0.01
Soybean, seed | 0.02
Spearmint, fresh leaves | 15
Spearmint, oil | 20
Squash/cucumber subgroup 9B | 0.02
Star apple | 0.2
Tangerine ¹ | 0.1
Tea, dried ¹ | 15
Tomato | 0.2
¹ There are no U.S. registrations.

* * * * *

13. Amend § 180.599 by revising table 1 to paragraph (a) by:

a. Revising the entries “Almond, hulls”, “Apple, wet pomace”, “Avocado”, “Bean, succulent shelled”, “Berry, low growing, subgroup 13-07G”, “Caneberry subgroup 13-07A”, and “Cherry, subgroup 12-12A”;

b. Removing the entry “Citrus, oil”;

c. Revising the entry “Cowpea, forage”;

d. Adding in alphabetical the entry “Fruit, citrus, group 10-10, oil”; and

e. Revising the entries “Fruit, pome, group 11-10”, “Guava”, “Tropical and subtropical, small fruit, inedible peel, subgroup 24A”, “Vegetable, cucurbit, group 9”, and “Vegetable, fruiting, group 8-10”.

The revisions and addition read as follows:

§ 180.599 Acequinocyl; tolerances for residues.

(a) * * *

Table 1 to Paragraph (a)
Commodity | Parts per million
Almond, hulls | 2
Apple, wet pomace | 1
Avocado | 0.5
* * * * * * *
Bean, succulent shelled | 0.3
Berry, low growing, subgroup 13-07G | 0.5
* * * * * * *
Caneberry subgroup 13-07A | 4
* * * * * * *
Cherry, subgroup 12-12A | 1
Cowpea, forage | 6
* * * * * * *
Fruit, citrus, group 10-10, oil | 30
Fruit, pome, group 11-10 | 0.4
* * * * * * *
Guava | 0.9
* * * * * * *
Tropical and subtropical, small fruit, inedible peel, subgroup 24A | 2
Vegetable, cucurbit, group 9 | 0.3
Vegetable, fruiting, group 8-10 | 0.7

* * * * *

14. Amend § 180.611 by revising and republishing paragraph (a) to read as follows:

§ 180.611 Pinoxaden; tolerances for residues.

(a) General. (1) Tolerances are established for residues of the herbicide pinoxaden, including its metabolites and degradates, in or on the commodities in table 1 to this paragraph (a)(1). Compliance with the tolerance levels specified in table 1 to this paragraph (a)(1) is to be determined by measuring pinoxaden (8-(2,6-diethyl-4-methylphenyl)-1,2,4,5-tetrahydro-7-oxo-7H-pyrazolo[1,2-d][1,4,5] oxadiazepin-9-yl 2,2-dimethylpropanoate) and its metabolites 8-(2,6-diethyl-4-methyl-phenyl)-tetrahydro-pyrazolo[1,2-d][1,4,5]oxadiazepine-7,9-dione and free and conjugated forms of 8-(2,6-diethyl-4-hydroxymethyl-phenyl)-tetrahydro-pyrazolo[1,2-d][1,4,5] oxadiazepine-7,9-dione, and 4-(7,9-dioxo-hexahydro-pyrazolo[1,2-d] [1,4,5]oxadiazepin-8-yl)-3,5-diethyl-benzoic acid, calculated as the stoichiometric equivalent of pinoxaden, in or on the commodity.

Table 1 to Paragraph (a)(1)
Commodity | Parts per million
Barley, bran | 1.6
Barley, grain | 0.9
Barley, hay | 3
Barley, straw | 3
Egg | 0.06
Poultry, fat | 0.06
Poultry, meat | 0.06
Poultry, meat byproducts | 0.06
Wheat, bran | 3
Wheat, forage | 3.5
Wheat, grain | 1.3
Wheat, hay | 3
Wheat, straw | 3

(2) Tolerances are established for residues of the herbicide pinoxaden, including its metabolites and degradates, in or on the commodities in table 2 to this paragraph (a)(2). Compliance with the tolerance levels specified in table 2 to this paragraph (a)(2) is to be determined by measuring pinoxaden (8-(2,6-diethyl-4-methylphenyl)-1,2,4,5-tetrahydro-7-oxo-7H-pyrazolo[1,2-d][1,4,5]oxadiazepin-9-yl 2,2-dimethylpropanoate) and its metabolites 8-(2,6-diethyl-4-methyl-phenyl)-tetrahydro-pyrazolo[1,2-d][1,4,5]oxadiazepine-7,9-dione and free and conjugated forms of 8-(2,6-diethyl-4-hydroxymethyl-phenyl)-tetrahydro-pyrazolo[1,2-d][1,4,5] oxadiazepine-7,9-dione, calculated as the stoichiometric equivalent of pinoxaden, in or on the commodity.

Table 2 to Paragraph (a)(2)
Commodity | Parts per million
Cattle, fat | 0.04
Cattle, meat | 0.04
Cattle, meat byproducts | 0.04
Goat, fat | 0.04
Goat, meat | 0.04
Goat, meat byproducts | 0.04
Hog, fat | 0.04
Hog, meat | 0.04
Hog, meat byproducts | 0.04
Horse, fat | 0.04
Horse, meat | 0.04
Horse, meat byproducts | 0.04
Milk | 0.02
Sheep, fat | 0.04
Sheep, meat | 0.04
Sheep, meat byproducts | 0.04

* * * * *

15. Amend § 180.613 by:

a. Revising and republishing the table in paragraph (a)(1);

b. Adding the table heading “Table 2 to Paragraph (a)(2)” to the table in paragraph (a)(2); and

c. Revising and republishing the table in paragraph (c).

The revisions and addition read as follows:

§ 180.613 Flonicamid; tolerances for residues.

(a) * * *

(1) * * *

Table 1 to Paragraph (a)(1)
Commodity | Parts per million
Alfalfa, forage | 10
Alfalfa, hay | 7
Alfalfa, seed | 1.5
Almond, hulls | 9
Berry, low-growing, subgroup 13-07G | 2
Brassica, leafy greens, subgroup 4-16B, except radish, tops | 16
Bushberry subgroup 13-07B | 1.5
Caneberry subgroup 13-07A | 3
Celtuce | 4
Cherry subgroup 12-12A | 0.6
Corn, sweet, forage | 9
Corn, sweet, kernel plus cob with husks removed | 0.4
Corn, sweet, stover | 20
Cotton, gin byproducts | 6
Cotton, hulls | 2
Cotton, meal | 1
Cottonseed subgroup 20C | 0.6
Fennel, florence, fresh leaves and stalk | 4
Fruit, citrus, group 10-10 | 1.5
Fruit, pome, group 11-10 | 0.2
Hop, dried cones | 20
Kohlrabi | 1.5
Leaf petiole vegetable subgroup 22B | 4
Leafy greens subgroup 4-16A, except spinach | 8
Nut, tree, group 14-12 except pistachio | 0.15
Peach subgroup 12-12B | 1.5
Pepper/Eggplant subgroup 8-10B | 3
Peppermint, fresh leaves | 7
Pistachio | 0.6
Plum subgroup 12-12C | 0.6
Pomegranate | 0.5
Potato, granules/flakes | 0.4
Prickly pear, fruit | 2
Prickly pear, pads | 3
Radish, tops | 20
Rapeseed subgroup 20A | 1.5
Small fruit vine climbing (except fuzzy kiwifruit), subgroup 13-07F | 3
Spearmint, fresh leaves | 7
Spinach | 9
Sunflower subgroup 20B | 0.7
Tea ¹ | 40
Tomato, paste | 2
Tomato, puree | 0.5
Tomato subgroup 8-10A | 0.4
Vegetable, brassica, head and stem, group 5-16 | 1.5
Vegetable, cucurbit, group 9 | 1.5
Vegetable, legume, bean, edible podded, subgroup 6-22A | 4
Vegetable, legume, bean, succulent shelled, subgroup 6-22C | 7
Vegetable, legume, pea, edible podded, subgroup 6-22B | 4
Vegetable, legume, pea, succulent shelled, subgroup 6-22D | 7
Vegetable, legume, pulse, bean, dried shelled, except soybean, subgroup 6-22E | 3
Vegetable, legume, pulse, pea, dried shelled, subgroup6-22F | 3
Vegetable, root, except sugar beet, subgroup 1B | 0.6
Vegetable, tuberous and corm, subgroup 1C | 0.2
¹ There are no U.S. registrations.

(2) * * *

Table 2 to Paragraph (a)(2)
* * * * * * *

* * * * *

(c) * * *

Table 3 to Paragraph (c)
Commodity | Parts per million
Clover, forage | 0.9
Clover, hay | 5

* * * * *

16. Amend § 180.647 by revising and republishing paragraph (a) to read as follows:

§ 180.647 d-Phenothrin; tolerances for residues.

(a) General. A tolerance of 0.01 parts per million is established for residues of the insecticide d-phenothrin in or on all food/feed crops following wide-area mosquito adulticide applications. Compliance with the tolerance levels specified is to be determined by measuring only d-phenothrin in or on the commodity.

* * * * *

[FR Doc. 2026-03366 Filed 2-19-26; 8:45 am]

BILLING CODE 6560-50-P